DEPARTMENT OF THE INTERIOR

National Park Service

Concession Contracts and Permits: Expiring Contracts; Extension

AGENCY: National Park Service, Interior.

ACTION: Public notice.

SUMMARY: Pursuant to the terms of existing concession contracts, public notice is hereby given that the National Park Service intends to request a continuation of visitor services for the following expiring concession contracts for a period of up to 2 years, or until such time as a new contract is awarded, whichever occurs sooner.

SUPPLEMENTARY INFORMATION: The contracts listed below have been extended to the maximum allowable under 36 CFR 51.23. Under the provisions of current concession contracts and pending the development and public solicitation of a prospectus for a new concession contract, the National Park Service authorizes continuation of visitor services for a period not-to-exceed 2 years, or until such time as a new contract is awarded, whichever occurs sooner, under the terms and conditions of current contracts as amended. The continuation of operations does not affect any rights with respect to selection for award of a new concession contract.

Concessional ID No. | Concessioner name | Park
LAME001 | Forever Resorts, Inc. (Cottonwood Cove) | Lake Mead NRA.
LACH003 | North Cascades Stehekin Lodge | North Cascades National Park Complex.

EFFECTIVE DATE: January 2, 2003.

FOR FURTHER INFORMATION CONTACT: Cynthia Orlando, Concession Program Manager, National Park Service, 1849 C Street, NW. (2410), Washington, DC 20240, Telephone 202/513-7144.

Dated: November 26, 2002.
Richard M. Cripe,
Acting Associate Director, Administration, Workforce Development and Business Practices.

[FR Doc. 02-32165 Filed 12-20-02; 8:45 am]

BILLING CODE 4310-70-M